DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Nurse Faculty Loan Program (NFLP) Annual Operating Report (AOR) Form (OMB No. 0915-0314)—[Extension]. This clearance request is for approval of the modified AOR for applicants to report NFLP loan fund activity annually. The modified form will collect additional data from applicants will include information on the total number of enrollees, graduates, and graduates employed as nurse faculty by, (1) Age and Gender, (2) Nursing Programs, (3) Nursing Degrees. Under Title VIII, section 846A of the Public Health Service Act, as amended by Public Law 111-148, the Secretary of Health and Human Services (HHS) enters into an agreement with a school of nursing and makes an award to the school. The award is used to establish a distinct account for the NFLP loan fund at the school. The school of nursing makes loans from the NFLP fund to students enrolled full-time in a master's or doctoral nursing education program that will prepare them to become qualified nursing faculty. Following graduation from the NFLP lending school, loan recipients may receive up to 85 percent NFLP loan cancellation over a consecutive four-year period in exchange for service as full-time faculty at a school of nursing located in the U.S. and all of its territories where a school of nursing may be located. The NFLP lending school collects any portion of the loan that is not cancelled and any loans that go into repayment and deposits these monies into the NFLP loan fund to make additional NFLP loans. The school of nursing must keep records of all NFLP loan fund transactions. The NFLP Annual Operating Report is used to collect information relating to the NFLP loan fund operations and financial activities for a specified reporting period (July 1 through June 30 of the academic year). Participating schools will complete and submit the AOR annually. In addition to the newly required data, participating schools will provide the Federal Government with current and cumulative information on: (1) The number and amount of loans made, (2) the number of NFLP recipients and graduates, (3) the number and amount of loans collected, (4) the number and amount of loans in repayment, (5) the number of NFLP graduates employed as nurse faculty, (6) NFLP loan fund receipts, disbursements and other related cost. The NFLP loan fund balance is used to determine future awards to the school.

The estimate of burden for this form is as follows:

Form | Number of respondents | Responses per respondent | Total responses | Hours per responses | Total burden hours
Nurse Faculty Loan Program Annual Operating Report (AOR) | 150 | 1 | 150 | 8 | 1200
Total Burden | 150 | 1 | 150 | 8 | 1200

E-mail comments to paperwork@hrsa.gov or mail the HRSA Reports Clearance Officer, Room 10-33, Parklawn Building, 5600 Fishers Lane, Rockville, MD 20857. Written comments should be received within 60 days of this notice.

Dated: September 10, 2010.
Sahira Rafiullah,
Director, Division of Policy and Information Coordination.

[FR Doc. 2010-23135 Filed 9-15-10; 8:45 am]

BILLING CODE 4165-15-P